DEPARTMENT OF AGRICULTURE

National Sheep Industry Improvement Center; Inviting Grant Proposals for the Sheep and Goat Industry Grant Initiative

AGENCY: National Sheep Industry Improvement Center, USDA.

ACTION: Notice.

SUMMARY: The National Sheep Industry Improvement Center (NSIIC) announces the availability of approximately $300,000 in competitive grants for product or business development, producer information or education, marketing and promotion for sheep or goats or their products, genetic retention, and animal health. Eligible applicants, including many business structures but excluding individuals (see section III), may apply for up to $50,000 in Federal Funds per proposal. The intent is to fund a variety of proposals that will benefit the U.S. sheep and goat industries.

DATES: Applications shall be considered as meeting the announced deadline if they are received on or before 5 p.m. e.s.t., October 15, 2004.

ADDRESSES: Submissions should be sent to: USDA—National Sheep Industry Improvement Center, P.O. Box 23483, Washington, DC 20026, if you are using the U.S. Postal Service or USDA—National Sheep Industry Improvement Center, South Building, Room 2117, 1400 Independence Ave., SW., Washington, DC 20250, if using any other courier or delivery service.

FOR FURTHER INFORMATION CONTACT: Jay B. Wilson, Executive Director/CEO, P.O. Box 23483, Washington, DC 20026, if you are using the U.S. Postal Service or USDA—National Sheep Industry Improvement Center, South Building, Room 2117, 1400 Independence Ave., SW., Washington, DC 20250, if using any other courier or delivery service. 202-690-0632 or 207-236-6567.

SUPPLEMENTARY INFORMATION:

Overview

Agency: National Sheep Industry Improvement Center.

Title: Sheep and Goat Industry Grant Initiative.

Type: Initial announcement for funding availability.

Catolog of Federal Domestic Assistance Number: 10.774.

Dates: Applications must be received by October 15, 2004, for projects that will be completed on or before September 30, 2006.

I. Funding Opportunity Description

The National Sheep Industry Improvement Center (NSIIC) is authorized under 7 U.S.C. 2008j. NSIIC is a fund established in the Treasury, without fiscal year limitation, to provide seed-money for a revolving fund that will provide financial assistance through a variety of mechanisms for the enhancement and marketing of sheep or goat products in the United States with an emphasis on infrastructure development. The NSIIC is a unique pilot program with the management vested in a Board of Directors that is appointed by, and reports to the Secretary of Agriculture. The Board of Directors consists of 7 voting members chosen from the sheep and goat industries. The respective Under Secretaries for Rural Development (RD) and Cooperative State Research, Education, and Extension Service (CSREES) also serve as non-voting members of the Board of Directors. The mission of the NSIIC is “To assist the U.S. Sheep and Goat Industries by strengthening and enhancing the production and marketing of sheep, goats, and their products in the United States.” The NSIIC Board of Directors has made low interest loans available through an intermediary arrangement with the National Livestock Producers Association since 2000 and has conducted the National Sheep Industry Grant Initiative in each of the past fiscal years since Fiscal Year (FY) 2002. The Board is making this grant initiative of up to $300,000 available for FY 2005.

Projects that are submitted in the proposals should be completed in a timely fashion as provided in the proposal, with a final completion date on or before September 30, 2006. The primary objective of the Sheep and Goat Industry Grant Initiative (SGIGI) is to fund a number of diverse projects that will benefit the U.S. sheep or goat industries through product or business development, producer information or education, marketing and promotion for sheep or goats or their products, genetic retention and animal health at the regional, national or international level. Examples of previously funded projects can be found at www.nsiic.org/grants.htm.

II. Award Information

The total amount of funds available for grants in FY 2005 is approximately $300,000. It is anticipated that all funds will be awarded in FY 2005 for projects that will be completed by September 30, 2006. It is expected that there will be proposals submitted that address a variety of needs related to the U.S. sheep and goat industries. Awards may be classified so that a variety of needs will be addressed by the funded proposals. The actual number of grants funded will depend on the quality of proposals received and the amount of funding requested. A proposal may be partially funded or funded in its entirety. The maximum amount of Federal funds through this grant initiative awarded for any one proposal will be $50,000.

The primary objective of the Sheep and Goat Industry Grant Initiative (SGIGI) is to fund a number of diverse projects that will benefit the U.S. sheep or goat industries through product or business development, producer information or education, marketing and promotion for sheep or goats or their products, genetic retention or animal health at the regional, national or international level.

Funds may not be used to: (a) Pay costs of preparing the application package; (b) pay costs incurred prior to the effective date of the grant; (c) conduct duplicative research; or (d) fund political activities.

III. Eligibility Information

Eligible applicants—An eligible entity is one that promotes the betterment of the United States sheep or goat industries and includes: (a) A public, private, or cooperative organization; (b) an association, including a corporation not operated for profit; (c) a federally recognized Indian Tribe; or (d) a public or quasi-public agency. Eligible entities must be domestic with at least 51 percent ownership by those who are either citizens of the United States or reside in the United States after being legally admitted for permanent residence.

Ineligible applicants—Individuals, Organizations under the Lobbying Disclosure Act of 1995 and organizations described in section 501(c)(4) of the Internal Revenue Code of 1986 (26 U.S.C. 501(c)(4)) which engages in lobbying activities. Applications from Ineligible applicants will be returned without review or consideration.

Cost Sharing or Matching—Cost sharing or matching funds are not required but preference may be given to proposals that have over 50 percent of the project costs in matching funds, including in kind contributions (See the Review and Selection Process). Overhead costs cannot exceed 25 percent.

Other—There is no limit on the number of applications that an entity may submit for this announcement. If an entity is found to be in violation of 7 CFR part 3017 they are ineligible.

IV. Application and Submission Information

Address to Request Application Package—Forms can be found at http://www.nsiic.org. They can also be obtained by: e-mailing a request to info@nsiic.org; writing National Sheep Industry Improvement Center, U.S. Department of Agriculture, P.O. Box 23483, Washington, DC 20026-3483; Faxing a request to 202-720-1053 or calling 202-690-0632.

Content and Form of Application Submission—A proposal should contain the following:

1. Form SF-424 “Application for Federal Assistance.” This serves as the cover page and no other cover page should be included.

2. Form SF-424A “Budget Information-Non Construction Programs.”

3. Form SF-424B “Assurances-Non Construction Programs.”

4. Project Summary: The proposal must contain a project summary of 1 page or less on a separate page. This page must include the title of the project, the names of the primary project contacts, the applicant entity, followed by the summary. The summary should be self-contained and should describe the overall goals and relevance of the project. The summary should also contain a listing of all organizations involved in the project. The Project Summary should immediately follow the Form SF-424B.

5. Project Narrative—The project narrative is limited to 10 pages and the pages should be numbered, beginning with page 1 on the first page of the narrative. The narrative portion of the Project Proposal should contain the following:

a. Introduction—Substantiate the need for the proposed project. Describe the project's specific relationship to the segment of sheep or goat industry issue, product or market being addressed.

b. Potential Industry Impact—Discuss the specific objectives to be accomplished under the project. Describe the proposed project and demonstrate how it will stimulate the U.S. sheep or goat industries. Provide a detailed analysis of the sheep or goat industry issue that is being addressed by the proposal by including the: (a) Product or group that will be impacted by the proposal (b) geographic area affected (c) target audience or end user; (d) and expected results.

c. Industry Commitment—Describe the commitment of the producers, processor, end-users or other involved parties in participating in the proposed project. This may include, but is not limited to, individual producers, producer groups, processors, seminar participants, local organizations, local or state governments or trade associations.

d. Business Soundness— Discuss the specific goals and objectives to be accomplished under the project. Provide a timetable and objectives along with a quantifiable benchmark and expected results.

e. Financial Feasibility—Provide a well-defined budget for the proposal and describe how the budget specifically relates to the completion of each goal or objective. This requirement may be accomplished, in whole or in part, by the required completion of SF-424B.

f. Management Ability—Identify the management team needed to complete the proposal objectives and describe their qualifications. Describe how the project will be coordinated among various participants and the nature of the collaborations. Describe plans for management of the project to ensure its proper and efficient administration.

What to Submit—An original which must bear an original signature and 10 additional copies must be submitted. Each copy must be stapled in the upper left-hand corner, do not bind. All copies of the proposal must be submitted in one package. The proposal must be submitted on standard 8.5″ x 11″ paper with typing on one side of the page only. In addition, margins must be at least 1″, type must be 12 characters per inch (12 pitch or 10 point) or larger, no more than 6 lines per inch, and there should be no page reductions.

Proposals are limited to the information requested. Do Not: Exceed the narrative limit; include organizational brochures, promotional materials, slides, films, clips, books, videos, product samples, letters of support (they should be summarized in the narrative) or any other additional materials. Proposals that contain more than the requested information will be returned without review or consideration.

Information that successful applicants must submit—Successful applicants will receive a letter of intent from NSIIC at which time they will be required to provide evidence to satisfy the “Insurance and Bonding” requirement and complete forms: AD-1047 “Certification Regarding Debarment, Suspension, and Other Responsibility Matters—Primary Covered Transactions”; AD-1048 “Certification Regarding Debarment, Suspension, Ineligibility and Voluntary Exclusion—Lower Tier Covered Transactions”; AD-1049 “Certification Regarding Drug-Free Workplace Requirements (Grants)”; RD-400-1 “Equal Opportunity Agreement”; “Certification Regarding Lobbying-Contracts, Grants, Loans and Cooperative Agreement”; SF-270 “Request for Advance for Reimbursement” and SF-269 “Financial Status Report” which is filed with the semi annual reports.

Submission Dates and Times—Applications shall be considered as meeting the announced deadline if they are received on or before 5 p.m. e.s.t., October 15, 2004. Submissions should be sent to: USDA—National Sheep Industry Improvement Center, P.O. Box 23483, Washington, DC 20026 if you are using the U.S. Postal Service or USDA—National Sheep Industry Improvement Center, South Building, Room 2117, 1400 Independence Ave., SW., Washington, DC 20250, if using any other courier or delivery service. Proposals received after that time and date will be returned without review or consideration. We strongly recommend you do not wait until the deadline date for submissions.

Funding Restrictions—Each application is limited to $50,000. Applicants will not be allowed reimbursement of pre-award costs.

V. Application Review Information

Selection Criteria—The proposal will initially be reviewed to determine whether the entity submitting the proposal meets the eligibility requirements and whether the proposal application contains the information required. After this initial evaluation, the following criteria will be used to rate and rank proposals received in response to this notice of funding availability. Failure to address any one of the criteria will disqualify the proposal and the proposal will be returned without review or consideration. Equal weight shall be given to each of the criterion listed below and points will be awarded on a scale of 5, 4, 3, 2, 1. A score of 5 indicates that the proposal was judged to be highly relevant to the criterion and a score of 1 indicates that the proposal was judged not to sufficiently address the criterion.

Each proposal will be evaluated and judged using the following criteria:

1. Potential Industry Impact—Describe the proposed project and demonstrate how it will stimulate the U.S. sheep or goat industries. Provide a detailed analysis of the sheep or goat industry issue that is being addressed by the proposal by including the: (a) Product or group that will be impacted by the proposal (b) geographic area affected (c) target audience or end user; (d) and expected results. The NSIIC will evaluate whether the industry issue and need are well-defined and the proposed project provides an effective and efficient approach to resolving the identified need.

2. Industry Commitment—Describe the commitment of the producers, processor, end-users or other involved parties in participating in the proposed project. This may include, but is not limited to, individual producers, producer groups, processors, seminar participants, local organizations, local or state governments or trade associations. The NSIIC will evaluate whether there is a commitment from all who are expected to participate and benefit from the proposed project.

3. Business Soundness—Provide a timetable and objectives along with a quantifiable benchmark and expected results. The NSIIC will evaluate whether the proposal includes (a) A clear objective; (b) well-defined tasks that will accomplish the objectives; (c) realistic benchmarks; and (d) a realistic timetable for the completion of the proposed tasks and whether a business strategy has been adequately developed.

4. Financial Feasibility—Provide a well-defined budget for the proposal. The NSIIC will evaluate whether the funding requirements and budget for the project are well defined, financially feasible and the matching funds or other resources that will be used to leverage the requested funds are identified.

5. Management Ability—Identify the management team needed to complete the proposal objectives and describe their qualifications. The NSIIC will evaluate whether the management team is identified and capable of implementing the proposal.

Review and Selection Process—The NSIIC Board of Directors will evaluate proposal applications. Applications will be evaluated competitively and points awarded as specified in the Selection Criteria section of this Notice. Grants will be awarded on a competitive basis to eligible entities. A proposal may be partially funded. After assigning points based upon the selection criteria, applications will be funded in rank order until all available funds have been expended. The Board of Directors reserves the right to award up to five additional points in order to provide a diversity of projects targeting various (1) situations, (2) geographic areas, or subjects, or for proposals with over 50 percent in matching funds. Projects that are approved for further processing will be subject to the grant terms that are negotiated between the applicant and the Board of Directors including, but not limited to, the amount to be funded, project goals, timetables, completion date or other terms as deemed necessary.

Award Administration Information: All applicants will receive notification of the outcome no later than January 31, 2005. Notifications will be sent to the contact person identified on the SF-424 by traceable carrier or USPS certified, return receipt mail.

VI. Award Administration Information

Award Notices—Successful applicants can expect notification no later than January 31, 2005. A letter of intent will be sent to the contact person identified on the SF-424. The letter of intent will be followed by a letter of conditions, the requirements described in the “Information that Successful applicants must submit” section. When those are competed the grant agreement will be executed.

Administrative and National Policy Requirements—Several Federal statutes and regulations apply to proposals considered for review and to grants awarded by USDA. These include, but are not limited to:

7 CFR part 1.1—USDA implementation of the Freedom of Information Act.

7 CFR part 15a—USDA implementation of title VI of the Civil Rights Act of 1964.

7 CFR part 3015—USDA Uniform Federal Assistance Regulations.

7 CFR part 3016—Uniform Administrative Requirements for Grants and Cooperative Agreements to State and Local Governments.

7 CFR part 3017—Governmentwide Debarment and Suspension (nonprocurement) and Governmentwide Requirements for drug-free workplace (grants).

7 CFR part 3018—New Restrictions on Lobbying.

7 CFR part 3019—Uniform Administrative Requirements for Grants and Agreements with Institutions of Higher Education, Hospitals, and Other Nonprofit Organizations.

7 CFR part 3052—Audits of State, Local Governments, and Non-Profit Organizations.

The terms of the above parts will be incorporated in the grant agreement.

Reporting—In addition to any other required reports, awardees will be required to submit written project performance reports on a semi-annual basis and a final report at the completion of the project. The project performance report and final report shall include, but need not be limited to: (a) SF-269 “Financial Status Report”; (b) A comparison of timeline, tasks and objectives outlined in the proposal as compared to the actual accomplishments; (c) If report varies from the stated objectives or they were not met, the reasons why established objectives were not met; (d) Problems, delays, or adverse conditions which will materially affect attainment of planned project objectives; (e) Objectives established for the next reporting period; and (f) Status of compliance with any special conditions on the use of awarded funds.

VII. Agency Contact(s)

Web site—Forms, previous recipients and other information can be found at www.nsiic.org; e-mail info@nsiic.org; USPS at NSIIC, P.O. Box 23483, Washington, DC 20026-3483; other carriers at Room 2117, South Agriculture Building, 1400 Independence Avenue, SW., Washington, DC 20250; Telephone (202) 690-0632 or (207) 236-6567 or FAX (202) 720-1053.

VIII. Other Information

Low interest loans: For information on NSIIC intermediary low interest loan program, visit National Livestock Producers Association at http://www.nlpa.org.

The NSIIC Board of Directors reserves the right to award more, or less than the funds described in this announcement. In the absence of worthy application, the Board may decide not to make an award if deemed in the best interest of the Government.

Dated: June 4, 2004.
Jay B. Wilson,
Executive Director/CEO, National Sheep Industry Improvement Center.

[FR Doc. 04-13107 Filed 6-9-04; 8:45 am]

BILLING CODE 1351-01-P